FEDERAL COMMUNICATIONS COMMISSION

47 CFR Part 73

[MB Docket No. 12-115; DA 12-1084]

Radio Broadcasting Services; Alberton, MT; Crystal Falls, MI; Saint Paul, AR; and Waitsburg, WA

AGENCY: Federal Communications Commission.

ACTION: Final rule.

SUMMARY: The Audio Division, on its own motion, deletes four vacant allotments in various communities in Arkansas, Michigan, Montana, and Washington. These vacant allotments have been auctioned through our competitive bidding process, and are considered unsold permits that were included in Auction 93. We are deleting these vacant allotments from the FM Table, because there were no bona fide expressions of interest filed to retain these four vacant allotments. Deletion of these allotments may create other opportunities in nearby communities for new FM allotments or upgrades of existing stations. We conclude that the deletion of these vacant allotments could promote a more effective and efficient use of the FM broadcast spectrum. See Supplementary Information, supra.

DATES: Effective August 20, 2012.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Commission's Report and Order, MB Docket No. 12-115, adopted July 5, 2012, and released July 6, 2012. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will not send a copy of this Report and Order pursuant to the Congressional Review Act, see 5 U.S.C. 801(a)(1)(A), because the adopted rules are rules of particular applicability.

The allotment of Channel 287A at Saint Paul, Arkansas is not currently listed in the FM Table of Allotments. Channel 287A at Saint Paul, Arkansas was allotted in MM Docket No. 97-34. See Saint Paul, Arkansas, 62 FR 65765, published December 16, 1997. Cumulus Licensing, LLC, permittee of Station DWYAK-FM, Channel 287A, Saint Paul, Arkansas received a construction permit to operate the station on Channel 287A at Saint Paul, Arkansas. However, the Audio Division subsequently cancelled the construction permit (File No. BNPH-20041230ADG), rendering Channel 287A at Saint Paul, Arkansas a vacant allotment.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Amend § 73.202(b) Table of FM Allotments as follows:

a. Remove Crystal Falls, under Michigan, Channel 280C2.

b. Remove Alberton, under Montana, Channel 288C3.

c. Remove Waitsburg, under Washington, Channel 272A.

[FR Doc. 2012-17785 Filed 7-19-12; 8:45 am]

BILLING CODE 6712-01-P